DEPARTMENT OF AGRICULTURE

Agricultural Marketing Service

[Docket Number FV-06-315]

United States Standards for Grades of Summer Squash

AGENCY: Agricultural Marketing Service, USDA.

ACTION: Notice.

SUMMARY: The Agricultural Marketing Service (AMS), prior to undertaking research and other work associated with revising official grade standards, is soliciting comments on the possible revisions of the United States Standards for Grades of Summer Squash. At a meeting with the Fruit and Vegetable Industry Advisory Committee, AMS was asked to review the Fresh Fruit and Vegetable grade standards for usefulness in serving the industry. As a result, AMS has identified the United States Standards for Grades of Summer Squash for possible revision.

AMS is considering proposed revisions to the U.S. standards that would incorporate grades that describe the quality and size of summer squash currently being marketed. Additionally, definitions would be included for defects not currently in the standards, and the “Unclassified” category would be eliminated from the standards. AMS is seeking comments regarding these changes and any other revisions to the summer squash standards that may be necessary to better serve the industry.

DATES: Comments must be received by October 6, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; fax (202) 720-8871, e-mail FPB.DocketClerk@usda.gov. Comments should make reference to the dates and page number of this issue of the Federal Register and will be made available for public inspection in the above office during regular business hours. The United States Standards for Grades of Summer Squash are available either at the above address or by accessing the AMS, Fresh Products Branch Web site at: http://www.ams.usda.gov/standards/stanfrfv.htm.

FOR FURTHER INFORMATION CONTACT: Cheri L. Emery, at the above address or call (202) 720-2185; e-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is considering revisions to the voluntary United States Standards for Grades of Summer Squash using procedures that appear in Part 36, Title 7 of the Code of Federal Regulations (7 CFR part 36). These standards were last revised on January 6, 1984.

Background

At a meeting with the Fruit and Vegetable Industry Advisory Committee, AMS was asked to review the Fresh Fruit and Vegetable grade standards for usefulness in serving the Industry. AMS has identified the United States Standards for Grades of Summer Squash for possible revision. Prior to undertaking detailed work to develop the proposed revisions to the standards, AMS is soliciting comments on the proposed revisions, and any other comments on the United States Standards for Grades of Summer Squash to better serve the industry.

AMS is considering revising the U.S. standards to include a U.S. Fancy grade that would describe the level of quality and size of the summer squash currently being marketed by the industry. AMS is also proposing to add specific definitions for defects that are not defined in the standards, which are currently scored and described using the general definitions for “damage” and “serious damage” depending on whether the defect “materially” or “seriously detracts from the appearance, or edible or marketing quality of the squash.” Definitions for scars, cuts, cracks, dirt, mechanical damage, bruising, scuffing, surface discoloration, pitting, shriveling and mold would be included. Additionally, AMS also would eliminate the “Unclassified” category. This section is being removed in all standards when they are revised. This category is not a grade and only serves to show that no grade has been applied to the lot. It is no longer considered necessary. Additionally, AMS is seeking comments regarding any other provisions to the summer squash standards that may be necessary to better serve the industry.

This notice provides for a 60-day comment period for interested parties to comment on the proposed changes to the United States Standards for Grades of Summer Squash. Should AMS conclude that revisions are needed, it will develop a proposed revised standard that will be published in the Federal Register with a request for comments in accordance with 7 CFR 36.

Authority: 7 U.S.C. 1621-1627.

Dated: August 1, 2006.
Lloyd C. Day,
Administrator, Agricultural Marketing Service.

[FR Doc. E6-12758 Filed 8-4-06; 8:45 am]

BILLING CODE 3410-02-P